DEPARTMENT OF TRANSPORTATION

Surface Transportation Board

[Docket No. AB 1000 (Sub-No. 2X); Docket No. AB 290 (Sub-No. 344X)]

Georgia Southwestern Railroad, Inc.—Discontinuance of Service Exemption—in Chattahoochee, Marion, and Schley Counties, GA.; Central of Georgia Railroad Company—Discontinuance of Service Exemption—in Chattahoochee, Marion, and Schley Counties, GA

Central of Georgia Railroad Company (CGA) and Georgia Southwestern Railroad, Inc. (GSWR) (collectively, applicants) have jointly filed a verified notice of exemption under 49 CFR part 1152 subpart F—Exempt Abandonments and Discontinuances of Service for each carrier to discontinue service over approximately 33 miles of rail line between milepost 12.0 at or near Ochillee and milepost 45.0 near Ellaville, in Chattahoochee, Marion, and Schley Counties, GA (the line). Applicants state that the line is a portion of a CGA-owned rail line extending between Ochillee and milepost 61.5 in Americus, GA, that is leased to GSWR. The line traverses United States Postal Service Zip Codes 31803, 31805, 31806, and 31905.

Applicants have certified that: (1) No local traffic has moved over the line for at least two years; (2) no overhead traffic has moved over the line for at least two years and overhead traffic, if any, could be transported over other rail routes; (3) no formal complaint filed by a user of rail service on the line (or by a state or local government entity acting on behalf of such user) regarding cessation of service over the line either is pending with the Surface Transportation Board or with any U.S. District Court or has been decided in favor of complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will be effective on March 21, 2013, unless stayed pending reconsideration. Petitions to stay that do not involve environmental issues and formal expressions of intent to file an OFA to subsidize continued rail service under 49 CFR 1152.27(c)(2) ¹ must be filed by March 1, 2013.² Petitions to reopen must be filed by March 11, 2013, with the Surface Transportation Board, 395 E Street SW., Washington, DC 20423-0001.

¹ Each OFA must be accompanied by the filing fee, which is currently set at $1,600. See 49 CFR 1002.2(f)(25).

² Because applicants are seeking to discontinue service, not to abandon the line, trail use/rail banking and public use conditions are not appropriate. Likewise, no environmental or historic documentation is required here under 49 CFR 1105.6(c) and 49 CFR 1105.8(b), respectively.

A copy of any petition filed with the Board should be sent to applicants' representatives: For CGA, Robert A. Wimbish, Baker & Miller PLLC, 2401 Pennsylvania Ave. NW., Suite 300, Washington, DC 20037; for GSWR, Eric M. Hocky, Thorp Reed & Armstrong, LLP, One Commerce Square, 2005 Market Street, Suite 1000, Philadelphia, PA 19103.

If the notice contains false or misleading information, the exemption is void ab initio.

Board decisions and notices are available on our Web site at www.stb.dot.gov.

Decided: February 13, 2013.
By the Board, Rachel D. Campbell, Director, Office of Proceedings.
Derrick A. Gardner,
Clearance Clerk.

[FR Doc. 2013-03726 Filed 2-15-13; 8:45 am]

BILLING CODE 4915-01-P